DEPARTMENT OF THE INTERIOR

Bureau of Indian Affairs

Energy Policy Act of 2005, Section 1813, Draft Report to Congress

AGENCY: Bureau of Indian Affairs, Interior.

ACTION: Notice of Publication of Draft Report to Congress.

SUMMARY: Section 1813 of the Energy Policy Act of 2005 (Pub. L. 109-58) requires the Department of the Interior and the Department of Energy (Departments) to jointly conduct a study of issues related to energy rights-of-way (ROWs) on tribal lands. The Act further directs the Departments to submit a report to Congress on the findings of the study. The Draft Report to Congress is available for review on the Section 1813 Web site (http://1813.anl.gov).

DATES: Comments and suggestions on the Draft Report to Congress will be accepted through February 5, 2007.

ADDRESSES: You may submit comments by any of the following methods: Mail, personal, or messenger delivery: Attention: Section 1813 ROW Study, Office of Indian Energy and Economic Development, Room 20—South Interior Building, 1951 Constitution Avenue NW., Washington, DC 20245. E-mail: IEED@bia.edu (please include the phrase “Section 1813 Comments” in the subject line).

FOR FURTHER INFORMATION CONTACT: Darryl Francois (DOI Office of Indian Energy and Economic Development) at (202) 219-0740, or Rollie Wilson (DOE Office of Electricity Delivery and Energy Reliability) at (202) 586-3946. Persons who use a telecommunications device for the deaf (TDD) may call the Federal Information Relay Service (FIRS) at 1-800-877-8339, to contact the above individuals during business hours. FIRS is available twenty-four hours a day, seven days a week.

SUPPLEMENTARY INFORMATION:

I. Public Comment Procedures

Commenting on the Draft Report to Congress written comments or suggestions should: be specific and substantive; explain the reasoning behind your comments and suggestions; and where possible, reference the specific section or paragraph you are addressing. Comments, including names and street addresses of respondents, will be available for public review at the address listed under ADDRESSES: Mail, personal, or messenger delivery during regular business hours (9 a.m. to 4 p.m.), Monday through Friday, except holidays. Individual respondents may request confidentiality, which will be honored to the extent allowable by law. Those wishing to withhold their name or address (except for the city or town) must state this prominently at the beginning of their comment. Submissions from organizations or businesses, and from individuals identifying themselves as representatives or officials of organizations or businesses, will be made available for public inspection in their entirety.

II. Background

Section 1813 of the Energy Policy Act of 2005 (Pub. L. 109-58) requires the Department of the Interior and the Department of Energy (Departments) to jointly conduct a study of issues regarding grants, expansions, and renewals of energy rights-of-way (ROWs) on tribal lands. Section 1813 also requires the Departments to consult with Indian tribes, the energy industry, appropriate governmental entities, and affected businesses and consumers in the course of the study. The Act further directs the Departments to submit a report to Congress on the findings of the study, including: (1) An analysis of historic rates of compensation paid for energy ROWs on tribal land; (2) recommendations for appropriate standards and procedures for determining fair and appropriate compensation to Indian tribes for grants, expansions, and renewals of energy ROWs on tribal land; (3) an assessment of the tribal self determination and sovereignty interests implicated by applications for the grant, expansion, or renewal of energy ROWs on tribal land; and (4) an analysis of relevant national energy transportation policies relating to grants, expansions, and renewals of energy ROWs on tribal land.

The Departments held a number of public meetings to seek input and feedback from Indian tribes, the energy industry, appropriate governmental entities, and affected businesses and consumers. In addition, the Departments held a number of government-to-government consultations with Indian tribes. On August 9, 2006, the Departments released a first draft of the Report to Congress and accepted comments on that draft report. This revised Draft Report to Congress reflects the Departments' considered response to the substantial number of comments received.

The Draft Report to Congress is available for review on the Section 1813 Web site (http://1813.anl.gov).

Dated: December 19, 2006.
Abraham E. Haspel,
Assistant Deputy Secretary.

[FR Doc. 06-9835 Filed 12-21-06; 8:45 am]

BILLING CODE 4310-02-M